DEPARTMENT OF HEALTH AND HUMAN SERVICES

Centers for Disease Control and Prevention

[30Day-16-0976]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Million Hearts® Hypertension Control Challenge (OMB No. 0920-0976, exp. 7/31/2016)—Reinstatement with Change—National Center for Chronic Disease Prevention and Health Promotion (NCCDPHP), Centers for Disease Control and Prevention (CDC).

Background and Brief Description

In September 2011, HHS launched the Million Hearts® initiative to prevent one million heart attacks and strokes by 2017. There is scientific evidence that provides general guidance on the types of system-based changes to clinical practice that can improve patient blood pressure control, but more information is needed to fully understand implementation practices so that they can be shared and promoted.

In 2013, CDC launched the Million Hearts® Hypertension Control Challenge (OMB No. 0920-0976, exp. 7/31/2016). The Challenge is authorized by Public Law 111-358, the America Creating Opportunities to Meaningfully Promote Excellence in Technology, Education and Science Reauthorization Act of 2010 (COMPETES Act). The annual Challenge is designed to help CDC (1) identify clinical practices and health systems that have been successful in achieving high rates of hypertension control, and (2) develop models for dissemination. The Challenge is open to single practice providers, group practice providers, and healthcare systems.

In 2013, 2014, and 2015, CDC collected information needed to assess candidates for recognition through the Million Hearts® Hypertension Control Challenge. A total of 59 public and private health care practices and systems were recognized as Million Hearts® Hypertension Control Champions for achieving exemplary levels of hypertension control in adults ages 18-85.

CDC plans to reinstate the Million Hearts® Hypertension Control Challenge, with changes, for information collection beginning in 2017. Challenges were previously launched in late summer/early fall. The 2016 Challenge is scheduled to launch in February 2017, coinciding with American Heart Month. The nomination period will be open for approximately 60 days, with recognition of the 2016 Million Hearts® Hypertension Control Champions in the fall of 2017. A similar calendar year schedule is planned for 2018 (information collection and recognition for the 2017 Champions) and 2019 (information collection and recognition for the 2018 Champions).

Information collection supporting the Challenge will be conducted in three steps. First, interested providers or practices will complete a web-based nomination form which provides the minimum amount of data needed to demonstrate evidence of clinical success in achieving hypertension control, including: (a) Two point-in-time measures of the clinical hypertension control rate for the patient population, (b) the size of the clinic population served, (c) a description of the patient population served and geographic location, and (d) a description of the sustainable systems and strategies adopted to achieve and maintain hypertension control rates. The estimated burden for completing the nomination form is 30 minutes. CDC scientists or contractors will review each nomination form and assign a preliminary score.

In the second phase of assessment, nominees with the highest preliminary scores (finalists) will be asked to participate in a one-hour data verification process. The nominee will review the nomination form with a reviewer or abstractor, describe how information was obtained from the provider's (or practice's) electronic records, chart reviews, or other sources, and review the methodology used to calculate the reported hypertension control rate. CDC conducts data verification to ensure that all nominees meet eligibility criteria and calculate their reported hypertension control rate according to a standardized method.

In the third phase of the assessment, each remaining finalist will participate in a two-hour, semi-structured interview and provide detailed information about the patient population served, the geographic region served, and the strategies employed by the practice or health system to achieve exemplary rates of hypertension control, including barriers and facilitators for those strategies.

Based on experience with administration of the Challenge in previous years, CDC plans to eliminate the cash prize awarded to Champions in previous years, and to implement minor changes to the nomination form and the data verification form that will improve usability and data quality. There are no changes to the estimated burden per response. Finally, CDC anticipates an overall reduction in burden due to a reduction in the estimated number of nominees. During the period of this Reinstatement request, on an annual basis, CDC estimates that information will be collected from up to 500 nominees using the nomination form, at most 40 data verifications, and at most 40 semi-structured interviews.

CDC will use the information collected through the Million Hearts® Hypertension Control Challenge to increase widespread attention to hypertension at the clinical practice level, improve understanding of successful and sustainable implementation strategies at the practice or health system level, bring visibility to organizations that invest in hypertension control, and motivate individual practices to strengthen their hypertension control efforts. Information collected through the Million Hearts® Hypertension Control Challenge will link success in clinical outcomes of hypertension control with information about procedures that can be used to achieve similar favorable outcomes so that the strategies can be replicated by other providers and health care systems.

OMB approval is requested for three years. Participation is voluntary and there are no costs to the respondents other than their time. The total estimated annualized burden hours are 370.

Estimated Annualized Burden Hours
Type of responses | Form name | Number of respondents | Number of responses per respondent | Average burden per response (in hr)
Physicians (Single or Group Practices) | Million Hearts® Hypertension Control Champion Nomination form | 500 | 1 | 30/60
Finalists | Data Verification Form | 40 | 1 | 1
| Semi-structured Interview | 40 | 1 | 2

Leroy A. Richardson,
Chief, Information Collection Review Office, Office of Scientific Integrity, Office of the Associate Director for Science, Office of the Director, Centers for Disease Control and Prevention.

[FR Doc. 2016-22446 Filed 9-16-16; 8:45 am]

BILLING CODE 4163-18-P